OVERSEAS PRIVATE INVESTMENT CORPORATION

Sunshine Act Meeting; Public Hearing

November 7, 2002.

OPIC's Sunshine Act notice of its public hearing was published in the Federal Register (Volume 67, Number 206, Page 65379 and 65380) on October 24, 2002. No requests were received to provide testimony or submit written statements for the record; therefore, OPIC's public hearing in conjunction with OPIC's November 14, 2002 Board of Directors meeting scheduled for 2 PM on November 7, 2002 has been cancelled.

Contact Person for Information: Information on the hearing cancellation may be obtained from Connie M. Downs at (202) 336-8438, via facsimile at (202) 218-0136, or via email at cdown@opic.gov.

Dated: November 7, 2002.
Connie M. Downs,
OPIC Corporate Secretary.

[FR Doc. 02-28763 Filed 11-7-02; 12:12 pm]

BILLING CODE 3210-01-M